DEPARTMENT OF THE INTERIOR

DEPARTMENT OF AGRICULTURE

Forest Service

[DOI-2025-0038; 256D0102DM DS61900000 DMSN00000.000000 DX61901]

Alaska Subsistence Regional Advisory Council Meetings for 2026

AGENCY: Office of Subsistence Management, Interior; Forest Service, Agriculture.

ACTION: Announcement of meetings.

SUMMARY: The Federal Subsistence Board (Board) announces the public meetings of the 10 Alaska Subsistence Regional Advisory Councils (Councils) for the winter and fall of 2026. The Councils each meet approximately twice a year to provide advice and recommendations to the Board about subsistence hunting and fishing issues on Federal public lands in Alaska.

DATES:

Winter 2026 Meetings: The Alaska Subsistence Regional Advisory Councils will meet between February 17, 2026, and April 1, 2026, as shown in table 1 of SUPPLEMENTARY INFORMATION.

Fall 2026 Meetings: The Alaska Subsistence Regional Advisory Councils will meet between September 24, 2026, and October 29, 2026, as shown in table 2 of SUPPLEMENTARY INFORMATION.

Teleconferences will substitute for in-person meetings if public health or safety restrictions are in effect. For more information about accessing the meetings, including start times and whether meetings will be in person or via teleconference, visit https://www.doi.gov/subsistence/regions.

All meetings are open to the public. For more information, see FOR FURTHER INFORMATION CONTACT.

ADDRESSES: Specific information about meeting locations and the final agendas can be found at https://www.doi.gov/subsistence/regions.

FOR FURTHER INFORMATION CONTACT: Chair, Federal Subsistence Board, c/o Office of Subsistence Management; Attention: Crystal Leonetti, Director, Office of Subsistence Management; (907) 786-3888 (phone) or subsistence@ios.doi.gov (email). For questions specific to National Forest System lands, contact Gregory Risdahl, Subsistence Program Leader, (907) 302-7354 (phone) or gregory.risdahl@usda.gov (email). Individuals in the United States who are deaf, blind, hard of hearing, or have a speech disability may dial 711 (TTY, TDD, or TeleBraille) to access telecommunications relay services. Individuals outside the United States should use the relay services offered within their country to make international calls to the point-of-contact in the United States.

Reasonable Accommodations: The Board is committed to providing access to these meetings for all participants. Please make requests in advance for sign language interpreter services, assistive listening devices, or other reasonable accommodations. We ask that you contact Katerina Wessels, (907) 444-1376 (phone), katerina_wessels@ios.doi.gov (email), at least 7 business days prior to the meeting to give the Department of the Interior sufficient time to process your request. All reasonable accommodation requests are managed on a case-by-case basis.

SUPPLEMENTARY INFORMATION: The Board announces the 2026 public meeting schedule for the 10 Councils, in accordance with the Federal Advisory Committee Act (5 U.S.C. Ch. 10). Established in 1993, the Councils are statutory Federal advisory committees that provide a public forum for their regions and recommendations to the Board about subsistence hunting, trapping, and fishing issues on Federal public lands in Alaska, as authorized by section 805 of the Alaska National Interest Lands Conservation Act (ANILCA; 16 U.S.C. 3111-3126).

The Councils are a crucial link between federally qualified subsistence users and the Board. The Board is a multi-agency body that includes representatives of the U.S. Fish and Wildlife Service, National Park Service, Bureau of Land Management, Bureau of Indian Affairs, and U.S. Forest Service, as well as a chair and five public members who are appointed by the Secretary of the Interior with the concurrence of the Secretary of Agriculture.

Each Council generally meets two times per calendar year, once in the winter and once in the fall, to attend to business and develop proposals and recommendations to the Board.

Winter 2026 Meetings: The Alaska Subsistence Regional Advisory Councils will meet between February 17, 2026, and April 1, 2026, as shown in table 1.

Table 1—Winter 2026 Meetings of the Alaska Subsistence Regional Advisory Councils
Regional Advisory Council | Dates | Location
Southeast Alaska—Region 1 | March 10-12 | Juneau.
Southcentral Alaska-Region 2 | March 17-18 | Anchorage.
Kodiak/Aleutians—Region 3 | March 4-5 | Kodiak.
Bristol Bay—Region 4 | March 9-10 | Naknek.
Yukon-Kuskokwim Delta—Region 5 | March 17-19 | Bethel.
Western Interior—Region 6 | February 24-25 | Fairbanks.
Seward Peninsula—Region 7 | March 30-31 | Nome.
Northwest Arctic—Region 8 | March 31-April 1 | Kotzebue.
Eastern Interior—Region 9 | March 3-5 | Fairbanks.
North Slope—Region 10 | February 24-25 | Utqiagvik.

Fall 2026 Meetings: The Alaska Subsistence Regional Advisory Councils will meet between September 24, 2026, and October 29, 2026, as shown in table 2.

Table 2—Fall 2026 Meetings of the Alaska Subsistence Regional Advisory Councils
Regional Advisory Council | Dates | Location
Southeast Alaska—Region 1 | October 20-22 | Gustavus.
Southcentral Alaska—Region 2 | October 14-15 | Anchorage.
Kodiak/Aleutians—Region 3 | October 1-2 | Unalaska.
Bristol Bay—Region 4 | October 28-29 | Dillingham.
Yukon-Kuskokwim Delta—Region 5 | October 27-29 | Bethel.
Western Interior—Region 6 | October 6-7 | Aniak.
Seward Peninsula—Region 7 | October 20-21 | Nome.
Northwest Arctic—Region 8 | September 24-25 | Kotzebue.
Eastern Interior—Region 9 | October 6-8 | Fort Yukon.
North Slope—Region 10 | October 1-2 | Utqiagvik.

Meeting Agendas

Winter 2026 Meetings

• General Council business: Review and adoption of agenda; election of officers; review and approval of previous meeting minutes; Council Chair and members reports; public and Tribal comments on non-agenda items.

• Develop proposals and accept public comments on potential changes to federal regulations for subsistence take of fish and shellfish.

• Review and approve Annual Report.

• Develop proposals and/or comments on the Alaska Board of Game and Alaska Board of Fisheries proposals for the current cycles.

• Appoint members to the vacant seats on Subsistence Resource Commissions.

• Agency, Tribal governments, State of Alaska, and nongovernmental organizations reports.

• Future meeting dates.

Fall 2026 Meetings

• General Council business: Review and adoption of agenda; review and approval of previous meeting minutes; Council Chair and members reports; public and Tribal comments on non-agenda items.

• Prepare recommendations and accept public comments on proposals to change federal regulations for subsistence take of fish and shellfish regulations and review and prepare recommendations on fisheries closures.

• Define issues for upcoming Annual Report.

• Develop proposals and/or comments on the Alaska Board of Game and Alaska Board of Fisheries proposals for the current cycles.

• Agency, Tribal governments, Native organizations, State of Alaska, and nongovernmental organizations reports.

• Future meeting dates.

A meeting announcement with specific dates, times, and meeting locations will be sent to the public and regional contact via email distribution list prior to both series of meetings; in addition, announcements will be made on local radio stations and posted on social media and the Federal Subsistence Management Program website (https://www.doi.gov/subsistence/regions). Locations and dates may change based on weather or local circumstances. A teleconference will substitute for an in-person meeting if public health or safety restrictions are in effect. The final draft agendas, call-in numbers, instructions on how to participate and provide public comments, and other related meeting information will be posted on the Federal Subsistence Management Program website and on social media at https://www.facebook.com/subsistencealaska/. Transcripts of the meetings are maintained by the program and will generally be available for public inspection within 14 days after each meeting at https://www.doi.gov/subsistence/regions.

Public Submission of Comments

Time will be allowed during the meetings for any individual or organization wishing to present oral or written comments. If you are not available to submit your comments, you may have another party present your comments on your behalf. Any written comments received will be presented to the Council members by staff.

Public Availability of Comments

Before including your address, phone number, email address, or other personally identifiable information in your comment, you should be aware that your entire comment—including your personally identifiable information—may be made publicly available at any time. While you can request, in your comment, to withhold your personally identifiable information from public review, we cannot guarantee that we will be able to do so.

Authority

5 U.S.C. Ch. 10; 16 U.S.C. 3115(a).

Crystal Leonetti,
Director, DOI—Office of Subsistence Management.
Gregory Risdahl,
Subsistence Program Leader, USDA—Forest Service.

[FR Doc. 2026-01810 Filed 1-28-26; 8:45 am]

BILLING CODE 3411-15-P; 4334-13-P